DEPARTMENT OF ENERGY

Federal Energy Regulatory Commission

[Project No. 14730-000]

Palo Verde Power; Notice of Preliminary Permit Application Accepted for Filing and Soliciting Comments, Motions To Intervene, and Competing Applications

On November 19, 2015, Palo Verde Power filed an application for a preliminary permit, pursuant to section 4(f) of the Federal Power Act (FPA), proposing to study the feasibility of the Palo Verde Hydroelectric Project (Palo Verde Project or project) to be located on the Colorado River, near Blythe, Riverside County, California. The sole purpose of a preliminary permit, if issued, is to grant the permit holder priority to file a license application during the permit term. A preliminary permit does not authorize the permit holder to perform any land-disturbing activities or otherwise enter upon lands or waters owned by others without the owners' express permission.

The proposed project would be located near the existing discharge channel north of Palo Verde Irrigation District's Palo Verde diversion dam. The applicant proposes to generate power by bypassing the releases the irrigation district now makes through the discharge channel's gates into the project's new penstock. The proposed project would consist of: (1) a new 30-foot-long concrete and steel penstock; (2) a new 45-foot-long, 45-foot-wide powerhouse containing a single turbine generator unit with an installed capacity of 29 megawatts; (3) a tailrace discharging powerhouse flows to the existing diversion spill area; (4) less than a mile of 161-kilovolt transmission line; and (5) appurtenant facilities. The project would have an estimated average annual energy generation of 161 gigawatt-hours. There are no federal lands associated with the project.

Applicant Contact: Michael Blakey, Palo Verde Power, 9734 Diablo Vista Ave., Galt, CA 95632; phone: (209) 251-3105.

FERC Contact: Jim Fargo; phone: (202) 502-6095.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14730-000.

More information about this project, including a copy of the application, can be viewed or printed on the “eLibrary” link of Commission's Web site at http://www.ferc.gov/docs-filing/elibrary.asp. Enter the docket number (P-14730) in the docket number field to access the document. For assistance, contact FERC Online Support.

Dated: January 19, 2016.
Nathaniel J. Davis, Sr.,
Deputy Secretary.

[FR Doc. 2016-01458 Filed 1-25-16; 8:45 am]

BILLING CODE 6717-01-P